DEPARTMENT OF LABOR

Employment and Training Administration

[TA-W-64,725]

Weather Shield Manufacturing, Inc., Corporate Office, Medford, WI; Notice of Revised Determination on Remand

On February 9, 2010, the U.S. Court of International Trade (USCIT) remanded to the U.S. Department of Labor (Department) for further review, Former Employees of Weather Shield Manufacturing, Inc. v. United States, Court No. 09-00377.

On December 17, 2008, former workers of Weather Shield Manufacturing, Inc. (subject firm) filed a petition for Trade Adjustment Assistance (TAA) and Alternative Trade Adjustment Assistance (ATAA) on behalf of workers of Weather Shield Manufacturing, Inc., Corporate Office, Medford, Wisconsin (subject facility).

The initial investigation revealed that, during the period under investigation, the workers at the subject facility (subject worker group) supported the production of doors and/or windows by providing administrative support functions to various subject firm manufacturing facilities and that there had been a significant number or proportion of workers at the subject facility that were totally or partially separated from employment. However, it was determined that imports of articles like or directly competitive with those produced by the subject firm did not contribute importantly to worker separations at the subject facility and that the subject firm did not shift production to a foreign country. A survey of a sample of the subject firm's declining domestic customers revealed negligible imports of products like or directly competitive with those produced by workers at the subject firm.

The Department issued a negative determination regarding the subject worker group's eligibility to apply for TAA and ATAA on April 29, 2009. The Department's Notice of Determination was published in the Federal Register on May 18, 2009 (74 FR 23214).

By application dated May 26, 2009, the petitioning workers requested administrative reconsideration of the Department's negative determination. To support the claim that the subject worker group was import impacted, the petitioners provided additional information regarding the products manufactured at the subject firm and the worker separations occurring throughout all subject firm locations. The petitioners also provided information pertaining to a competitor of the subject firm whose workers had been certified eligible to apply for TAA.

The Department issued a Notice of Affirmative Determination Regarding Application for Reconsideration on June 2, 2009. The Department's Notice was published in the Federal Register on June 18, 2009 (74 FR 28956).

During the reconsideration investigation, the Department obtained additional information from the subject firm regarding the petitioners' claims. The Department also surveyed additional declining customers regarding their purchases of articles like or directly competitive with those produced at the subject firm. The reconsideration investigation did not reveal information sufficient to reverse the initial negative determination.

Based on the findings of the reconsideration investigation, the Department concluded that customer imports of articles like or directly competitive with those produced by workers at the subject firm did not contribute importantly to worker separations. The Department issued a Notice of Negative Determination on Reconsideration on July 14, 2009. The Notice was published in the Federal Register on July 30, 2009 (74 FR 38048).

The petitioners thereupon filed a complaint to the USCIT. In the complaint to the USCIT, dated January 19, 2010, the Plaintiffs alleged that workers at the subject facility were impacted by increased customer imports of articles like or directly competitive with those produced at the subject firm. The Plaintiffs also requested the Department to investigate all the subject firm locations and product lines manufactured at the production facilities.

On January 19, 2010, Plaintiffs filed a motion to supplement the administrative record before the USCIT. Plaintiffs' motion included additional evidence not considered in Labor's investigation of the subject workers' petition for TAA benefits, including, in particular, information pertaining to competitors of the subject firm whose workers had been certified eligible to apply for TAA and who had overlapping customers with the subject firm. Since a number of these customers had not been contacted in the original investigation, a further review of this information was deemed necessary.

Based on the new information submitted, the Department requested that the USCIT remand the case to the Department to conduct a further investigation. On February 9, 2010, the USCIT granted this request.

For a worker group to be certified for TAA based on increased imports, all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision.

During the remand investigation, the Department obtained information from the subject firm and solicited input from the Plaintiffs. The Department also conducted a more extensive sample customer survey to determine whether or not there were increased customer imports in the relevant period of articles like or directly competitive with doors and/or windows produced at the subject firm and, if so, whether the increased imports contributed importantly to worker group separations.

The expanded sample customer survey conducted during the remand investigation revealed that the surveyed customer purchases from the subject firm declined while imports of doors and/or windows or articles like or directly competitive with those produced at the subject firm increased in the relevant period. The Department surveyed a significant proportion of the subject firm's declining customers regarding import purchases of doors and/or windows in 2007 and 2008, including overlapping customer with competitors identified by petitioners for the first time in their USCIT complaint. Overall, the customers increased import purchases in the period under investigation relative to purchases made from the subject firm.

Based on the findings of the remand investigation, the Department determines that increased imports of articles like or directly competitive with doors and/or windows produced by the subject firm contributed importantly to the subject workers' separation and to the decline in subject firm sales and production.

In accordance with Section 246 the Trade Act of 1974 (26 USC 2813), as amended, the Department herein presents the results of its investigation regarding certification of eligibility to apply for ATAA. The Department has determined in this case that the group eligibility requirements of Section 246 have been met.

A significant number of workers at the firm are age 50 or over and possess skills that are not easily transferable. Competitive conditions within the industry are adverse.

Conclusion

After careful review of the information obtained during the remand investigation, I determine that increased imports of articles like or directly competitive with doors and/or windows produced by the subject firm contributed to the total separation of a significant number or proportion of workers at the subject firm. In accordance with the provisions of the Act, I make the following certification:

All workers of Weather Shield Manufacturing, Inc., Corporate Office, Medford, Wisconsin, who became totally or partially separated from employment on or after December 17, 2007, through two years from the issuance of this revised determination, are eligible to apply for Trade Adjustment Assistance under Section 223 of the Trade Act of 1974, and are eligible to apply for alternative trade adjustment assistance under Section 246 of the Trade Act of 1974.

Signed at Washington, DC, this 9th day of August 2010.
Min Amy Chen,
Certifying Officer, Division of Trade Adjustment Assistance.

[FR Doc. 2010-20791 Filed 8-20-10; 8:45 am]

BILLING CODE 4510-FN-P